FEDERAL COMMUNICATIONS COMMISSION

Notice of Public Information Collection(s) Being Submitted to OMB for Review and Approval

June 28, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 13, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0034.

Title: Application for Construction Permit for Reserved Channel Noncommercial Educational Broadcast Station, FCC Form 340.

Form Number: FCC 340.

Type of Review: Revision of a currently approved collection.

Respondents: Not-for-profit institutions.

Number of Respondents: 668.

Estimated Time per Response: 2 to 4 hours.

Frequency of Response: On occasion reporting requirements; Third party disclosure.

Total Annual Burden: 2,158 hours.

Total Annual Cost: $7,071,746.

Privacy Impact Assessment: Yes.

Needs and Uses: FCC 340 is used to apply for authority to construct a new noncommercial educational FM, TV, and DTV broadcast station, or to make changes in the existing facilities of such a station. The FCC 340 is to be used for channels that are reserved exclusively for noncommercial educational use and on non-reserved channels if the only applicants competing propose to build NCE stations. For existing authorized analog stations to receive authorization for commencement of DTV operation, noncommercial educational broadcast licensees operating on a reserved channel must file FCC Form 340 for a construction permit. This application may be filed anytime after receiving the initial DTV channel allotment, but must be filed before the mid-point in a particular applicant's required construction period. The Commission will consider these applications as minor changes in facilities. Applicants do not have to supply full legal or financial qualification information. In addition, applicants for a newly allotted DTV channel reserved for noncommercial educational use(s) must also file the FCC Form 340.

On February 28, 2001, the FCC released a Memorandum Opinion and Order, In the Matter of Reexamination of the Comparative Standards for Noncommercial Educational Applicants (MO&O), MM Docket No. 95-31, FCC 01-64. The MO&O established a point system to compare objective characteristics of applicants for full-service radio or television stations on channels reserved for NCE use and on non-reserved channels if the only applicants competing propose to build NCE stations. The Commission has used the auction procedures to select among mutually exclusive commercial applications on non-reserved (commercial) channels. The MO&O, by establishing the point system, also resolved the “supplement issue” for those noncommercial stations that had previously filed pending applications filed before the Commission, but which were filed without point information (because the point system didn't exist when the applications were filed). These systems were required to file a “supplement” to their application providing the point information. Most applicants who had requested mutually exclusive NCE proposed for the reserved band have been required to supplement or settle their request(s) by 2001. A small number of these applicants remain, who were never subject to this requirement. These applicants are still required to supplement their Form 340 applications. The Commission will issue a public notice announcing the procedures to be used in this process at a future date, yet unknown.

Under 47 CFR 73.3580, applicants must publish a notice in a newspaper of general circulation of the filing of all applications for new or major changes in facilities for at least twice a week for two consecutive weeks in a three-week period. This notice must be completed within 30 days of the tendering of the application. A copy of this notice and the applications must be placed in the station's public inspection file.

OMB Control Number: 3060-0405.

Title: Application for Authority to Construct or Make Changes in an FM Translator or FM Booster Station, FCC Form 349.

Form Number: FCC 394.

Type of Review: Revision of a currently approved collection.

Respondents: Business or other for-profit entities; Not-for-profit institutions; and State, local, or tribal government.

Number of Respondents: 1,000.

Estimated Time per Response: 2 to 3 hours.

Frequency of Response: One-time and on occasion reporting requirements; Third party disclosure.

Total Annual Burden: 2,700 hours.

Total Annual Cost: $2,654,500.

Privacy Impact Assessment: No impact(s).

Needs and Uses: FCC Form 349 is used to apply for authority to construct a new FM translator or FM booster broadcast station, or to make changes in the existing facilities of such stations. Under 47 CFR section 73.3580, applicants must give notice of their applications for new or major changes in facilities in a local newspaper within 30 days, and a copy of both the notice and the application must be placed in the station's public inspection file. On April 4, 2000, the Commission adopted a Report and Order, In the Matter of Reexamination of the Comparative Standards for Noncommercial Educational Applicants, MM Docket No. 95-31. This Report and Order adopted new procedures to select among competing applicants for noncommercial educational (NCE) broadcast stations. Among other things, this Report and Order instituted a point system to compare objective characteristics whenever there are competing applications for NCE translator stations. FCC Form 349 was revised to incorporate these newly adopted procedures. Most applicants for NCE translator stations have been required to supplement or settle their request(s) by 2001. A small number of these applicants remain, who were never subject to this requirements. These applicants are still required to supplement their Form 349 applications. The FCC will issue a public notice announcing the procedures to be used in this process at a future date, yet unknown.

Federal Communications Commission.
Marlene H. Dortch,
Secretary.

[FR Doc. 04-15866 Filed 7-13-04; 8:45 am]

BILLING CODE 6712-01-P